DEPARTMENT OF HEALTH AND HUMAN SERVICES

Centers for Disease Control and Prevention

Disease, Disability, and Injury Prevention and Control Special Emphasis Panel: National Human Immunodeficiency Virus (HIV) Behavioral Surveillance, Funding Opportunity Announcement PS11-001; Initial Review

Correction: This notice was published in the Federal Register on August 4, 2010, Volume 75, Number 149, page 46952. The time and date should read as follows:

Time and Date: 8 a.m.-5 p.m., October 4, 2010 (Closed).

Contact Person for More Information: Gregory Anderson, M.S., M.P.H., Scientific Review Officer, CDC, 1600 Clifton Road, NE., Mailstop E60, Atlanta, GA 30333, Telephone: (404) 498-2293.

The Director, Management Analysis and Services Office, has been delegated the authority to sign Federal Register notices pertaining to announcements of meetings and other committee management activities, for both CDC and the Agency for Toxic Substances and Disease Registry.

Dated: August 18, 2010.
Elaine L. Baker,
Director, Management Analysis and Services Office, Centers for Disease Control and Prevention.

[FR Doc. C1-2010-21185 Filed 8-24-10; 8:45 am]

BILLING CODE 4163-18-P